DEPARTMENT OF TRANSPORTATION

National Highway Traffic Safety Administration

[Docket No. NHTSA-2021-0028; Notice 1]

Volvo Group North America, LLC, Receipt of Petition for Decision of Inconsequential Noncompliance

AGENCY: National Highway Traffic Safety Administration (NHTSA), Department of Transportation (DOT).

ACTION: Receipt of petition.

SUMMARY: Volvo Group North America, LLC (“Volvo”), has determined that certain Model Year (MY) 2015-2021 Volvo VHA, VHD, VNL, VNM, and VNR class 8 trucks and truck-tractors do not fully comply with Federal Motor Vehicle Safety Standard (FMVSS) No. 101, Controls and Displays. Volvo filed a noncompliance report dated March 5, 2021. Subsequently, Volvo petitioned NHTSA on March 26, 2021, for a decision that the subject noncompliance is inconsequential as it relates to motor vehicle safety. This notice announces receipt of Volvo's petition.

DATES: Send comments on or before July 28, 2021.

ADDRESSES: Interested persons are invited to submit written data, views, and arguments on this petition. Comments must refer to the docket and notice number cited in the title of this notice and submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal holidays.

• Electronically: Submit comments electronically by logging onto the Federal Docket Management System (FDMS) website at https://www.regulations.gov/. Follow the online instructions for submitting comments.

• Comments may also be faxed to (202) 493-2251.

Comments must be written in the English language and be no greater than 15 pages in length, although there is no limit to the length of necessary attachments to the comments. If comments are submitted in hard copy form, please ensure that two copies are provided. If you wish to receive confirmation that the comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the docket. The docket ID number for this petition is shown in the heading of this notice.

DOT's complete Privacy Act Statement is available for review in a Federal Register notice published on April 11, 2000 (65 FR 19477-78).

FOR FURTHER INFORMATION CONTACT: Neil Dold, General Engineer, NHTSA, Office of Vehicle Safety Compliance, 202-366-7352, neil.dold@dot.gov.

SUPPLEMENTARY INFORMATION:

I. Overview

Volvo has determined that certain Volvo VHA, VHD, VNL, VNM, and VNR class 8 trucks and truck-tractors, do not fully comply with the requirements of paragraph S5.2.8 of FMVSS No. 101, Controls and Displays (49 CFR 571.101). Volvo filed a noncompliance report dated March 5, 2021, pursuant to 49 CFR part 573, Defect and Noncompliance Responsibility and Reports. Volvo subsequently petitioned NHTSA on March 26, 2021, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance. Following submission of the petition, Volvo supplemented the petition on May 11, 2021.

This notice of receipt of Volvo's petition is published under 49 U.S.C. 30118 and 30120 and does not represent any Agency decision or other exercise of judgment concerning the merits of the petition.

II. Trucks and Truck-Tractors Involved

Approximately 72,239 Volvo VAH, VHD, VNL, VNM, and VNR class 8 trucks and truck-tractors manufactured between December 16, 2014, and December 21, 2020, are potentially involved.

III. Noncompliance

Volvo explains that the noncompliance is that the subject vehicles are equipped with a steering-wheel-mounted automatic vehicle speed system control switch (cruise control) that is not properly identified and, therefore, does not comply with paragraph S5.2.8 of FMVSS No. 101.

IV. Rule Requirements

Paragraph S5.2.8 of FMVSS No. 101 includes the requirements relevant to this petition. Each control for an automatic vehicle speed system (cruise control) and each control for heating and air conditioning systems must have identification provided for each function of each such system.

V. Summary of Volvo's Petition

The following views and arguments presented in this section, “V. Summary of Volvo's Petition,” are the views and arguments provided by Volvo. They have not been evaluated by the Agency and do not reflect the views of the Agency. Volvo describes the subject noncompliance and contends that the noncompliance is inconsequential as it relates to motor vehicle safety.

In support of its petition, Volvo submitted the following reasoning:

1. The cruise on and off button is just to the right of the switch in question. Considering the proximity of the switch to the cruise control on-and-off and cancel-and-resume buttons, the switch's function is self-explanatory.

2. This type of switch is commonly used for this function.

3. The function of the switch is explained in the operator's manual.

4. There are no warranty claims, consumer complaints, field reports, property damage or death and injury notices associated with the subject noncompliance.

Volvo concludes that the subject noncompliance is inconsequential as it relates to motor vehicle safety and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject trucks and truck-tractors that Volvo no longer controlled at the time it determined that the noncompliance existed. However, any decision on this petition does not relieve equipment distributors and dealers of the prohibitions on the sale, offer for sale, or introduction or delivery for introduction into interstate commerce of the noncompliant trucks and truck-tractors under their control after Volvo notified them that the subject noncompliance existed.

(Authority: 49 U.S.C. 30118, 30120: delegations of authority at 49 CFR 1.95 and 501.8)

Otto G. Matheke, III,
Director, Office of Vehicle Safety Compliance.

[FR Doc. 2021-13462 Filed 6-25-21; 8:45 am]

BILLING CODE 4910-59-P